DEPARTMENT OF ENERGY

Federal Energy Regulatory Commission

Combined Notice of Filings #1

Take notice that the Commission received the following electric rate filings:

Docket Numbers: ER13-1990-001.

Applicants: Southwest Power Pool, Inc.

Description: Amendment—Docket No. ER13-1990—Attachment T Revisions to be effective 9/30/2013.

Filed Date: 7/18/13.

Accession Number: 20130718-5103.

Comments Due: 5 p.m. ET 8/8/13.

Docket Numbers: ER13-1991-000.

Applicants: Desert Sunlight 250, LLC.

Description: Desert Sunlight 250, LLC Application for Market-Based Rates to be effective 7/18/2013.

Filed Date: 7/17/13.

Accession Number: 20130717-5307.

Comments Due: 5 p.m. ET 8/7/13.

Docket Numbers: ER13-1992-000.

Applicants: Desert Sunlight 300, LLC.

Description: Desert Sunlight 300, LLC Application for Market-Based Rates to be effective 7/18/2013.

Filed Date: 7/17/13.

Accession Number: 20130717-5310.

Comments Due: 5 p.m. ET 8/7/13.

Docket Numbers: ER13-1993-000.

Applicants: Canadian Hills Wind, LLC.

Description: SFA Compliance Filing—June 24, 2013 Order to be effective 6/24/2013.

Filed Date: 7/18/13.

Accession Number: 20130718-5073.

Comments Due: 5 p.m. ET 8/8/13.

Docket Numbers: ER13-1994-000.

Applicants: California Independent System Operator Corporation.

Description: SCE Omnibus to be effective 1/1/2013.

Filed Date: 7/18/13.

Accession Number: 20130718-5076.

Comments Due: 5 p.m. ET 8/8/13.

Docket Numbers: ER13-1995-000.

Applicants: Southern California Edison Company.

Description: Unexecuted LGIA with Watson to be effective 8/1/2013.

Filed Date: 7/18/13.

Accession Number: 20130718-5099.

Comments Due: 5 p.m. ET 8/8/13.

Take notice that the Commission received the following electric securities filings:

Docket Numbers: ES13-36-000.

Applicants: PJM Interconnection, L.L.C.

Description: Application of PJM Interconnection, L.L.C. under Section 204 of the Federal Power Act for an Order Authorizing the Issuance of Securities.

Filed Date: 7/18/13.

Accession Number: 20130718-5108.

Comments Due: 5 p.m. ET 8/8/13.

Take notice that the Commission received the following electric reliability filings:

Docket Numbers: RR13-7-000.

Applicants: North American Electric Reliability Corporation.

Description: Petition of North American Electric Reliability Corporation for Approval of Amendments to the Delegation Agreement with Texas Reliability Entity, Inc. and Request for Expedited Action.

Filed Date: 7/17/13.

Accession Number: 20130717-5343.

Comments Due: 5 p.m. ET 8/7/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2013.
Nathaniel J. Davis, Sr.,
Deputy Secretary.

[FR Doc. 2013-17898 Filed 7-24-13; 8:45 am]

BILLING CODE 6717-01-P